DEPARTMENT OF STATE

[Public Notice 8995]

Determination Under Section 7012 of the Department of State, Foreign Operations, and Related Programs Appropriations Act, 2014 Relating to Assistance to Somalia

Pursuant to section 7012 of the Department of State, Foreign Operations, and Related Programs Appropriations Act, 2014 (Div. K, P.L. 113-76) (the Act), E. O. 12163, as amended by E. O. 13346, and Delegation of Authority 245-1, I hereby determine assistance to Somalia is in the national interest of the United States and thereby waive, with respect to Somalia, the application of section 7012 of the Act.

This Determination shall be reported to Congress and published in the Federal Register.

Dated: May 5, 2014.
Heather Higginbottom,
Deputy Secretary of State for Management and Resources.

Editorial Note: This document was received for publication by the Office of Federal Register on December 31, 2014.

[FR Doc. 2014-30958 Filed 1-5-15; 8:45 am]

BILLING CODE 4710-26-P